DEPARTMENT OF DEFENSE

Office of the Secretary

[Docket ID: DoD-2008-OS-0071]

Privacy Act of 1974; System of Records

AGENCY: National Security Agency/Central Security Service, DoD

ACTION: Notice to Delete a System of Records.

SUMMARY: The National Security Agency/Central Security Service is deleting a system of records notice from its existing inventory of records systems subject to the Privacy Act of 1974, (5 U.S.C. 552a), as amended.

DATES: This proposed action will be effective without further notice on July 21, 2008 unless comments are received which result in a contrary determination.

ADDRESSES: Send comments to the National Security Agency/ Central Security Service, Office of Policy, 9800 Savage Road, Suite 6248, Ft. George G. Meade, MD 20755-6248.

FOR FURTHER INFORMATION CONTACT: Ms. Anne Hill at (301) 688-6527.

SUPPLEMENTARY INFORMATION: The Office of the Secretary of Defense systems of records notices subject to the Privacy Act of 1974, (5 U.S.C. 552a), as amended, have been published in the Federal Register and are available from the address above.

Dated: June 16, 2008.
Patricia L. Toppings,
OSD Federal Register Liaison Officer, Department of Defense.

Deletion

GNSA 13

System Name:

NSA/CSS Archival Records (February 22, 1993, 58 FR 10531).

Reason:

The NSA Archives were set up to maintain historical information on NSA/CSS activities and does not maintain personal information about individuals. The information stored in the NSA Archives is indexed and routinely retrieved by subject matter. While the databases that contain the Archived information have the capability to do a keyword search on names, this type of search is rarely done.

[FR Doc. E8-13995 Filed 6-19-08; 8:45 am]

BILLING CODE 5001-06-P